DEPARTMENT OF COMMERCE

International Trade Administration

[A-570-912]

[C-570-913]

Extension of the Deadline for Determining the Adequacy of the Antidumping Duty and Countervailing Duty Petitions: New Pneumatic Off-The-Road Tires from The People's Republic of China

AGENCY: Import Administration, International Trade Administration, Department of Commerce.

EFFECTIVE DATE: July 16, 2007.

FOR FURTHER INFORMATION CONTACT: Laurel LaCivita or Charles Riggle, AD/CVD Operations, Office 8 (antidumping); or Mark Hoadley or Thomas Gilgunn, AD/CVD Operations, Office 6 (countervailing), Import Administration, International Trade Administration, U.S. Department of Commerce, 14th Street and Constitution Avenue, NW, Washington, DC 20230; telephone: (202) 482-4243, (202) 482-0650, (202) 482-3148, and (202) 482-4236, respectively.

SUPPLEMENTARY INFORMATION:

BACKGROUND

The Petitions

On June 18, 2007, the Department of Commerce (“Department”) received antidumping duty and countervailing duty petitions (“petitions”) filed in proper form by Titan Tire Corporation, a subsidiary of Titan International, Inc. (“Titan”), and the United Steel, Paper and Forestry, Rubber, Manufacturing, Energy, Allied Industrial and Service Workers International Union, AFL-CIO-CLC (“USW”) (collectively, “Petitioners”), on behalf of the domestic industry producing new pneumatic off-the-road tires (“OTR tires”).

Determination of Industry Support for the Petitions

Sections 702(b)(1) and 732(b)(1) of the Tariff Act of 1930, as amended (“Act”) require that antidumping and countervailing duty petitions be filed by or on behalf of the domestic industry. Sections 702(c)(4)(A) and 732(c)(4)(A) of the Act provide that the Department's industry support determination be based on whether a minimum percentage of the relevant industry supports the petition. A petition meets this requirement if the domestic producers or workers who support the petition account for: (i) at least 25 percent of the total production of the domestic like product; and (ii) more than 50 percent of the production of the domestic like product produced by that portion of the industry expressing support for, or opposition to, the petition. Moreover, sections 702(c)(4)(D) and 732(c)(4)(D) of the Act provide that, if the petition does not establish support of domestic producers or workers accounting for more than 50 percent of the total production of the domestic like product, the Department shall: (i) poll the industry or rely on other information in order to determine if there is support for the petition, as required by subparagraph (A); or (ii) if there is a large number of producers, determine industry support using a statistically valid sampling method to poll the industry.

Extension of Time

Sections 702(c)(1)(A)(ii) and 732(c)(1)(A)(ii) of the Act provide that within 20 days of the filing of antidumping and countervailing duty petitions, the Department will determine, inter alia, whether the petitions have been filed by or on behalf of the U.S. industry producing the domestic like product. Sections 702(c)(1)(B) and 732(c)(1)(B) of the Act provide that the deadline for the initiation determination can be extended by 20 days in any case in which the Department must “poll or otherwise determine support for the petition by the industry . . . .” Because it is not clear from the petitions whether the industry support criteria have been met, we have determined to extend the time limit for initiating the investigations in order to poll the domestic industry. We intend to issue polling questionnaires to all known domestic producers of OTR tires identified in the petitions. The questionnaires will be on file in the Central Records Unit in room B-099 of the main Department of Commerce building. The questionnaire requests each company to respond to the questions and fax its response to the Department.

We will need additional time to analyze the domestic producers' responses to our request for information. See the “Determination of Industry Support for the Petitions” section of this notice, above. Therefore, in accordance with sections 702(c)(1)(B) and 732(c)(1)(B) of the Act, we are extending the deadline for determining the adequacy of the petitions until July 28, 2007, which is 40 days from the filing date of the petitions. Because July 28, 2007, falls on a Saturday, the initiation determination will be due no later than Monday, July 30, 2007, the first business day following the statutory deadline.

International Trade Commission Notification

Because the Department has extended the deadline for the initiation determinations, the Department has contacted the International Trade Commission (“ITC”) and has made this extension notice available to the ITC.

Dated: July 6, 2007.
David M. Spooner,
Assistant Secretary for Import Administration.

[FR Doc. E7-13719 Filed 7-13-07; 8:45 am]

BILLING CODE 3510-DS-S